DEPARTMENT OF AGRICULTURE

Agricultural Marketing Service

7 CFR Part 205

[Doc. No. AMS-NOP-21-0008]

RIN 0581-AE02

Inert Ingredients in Pesticides for Organic Production

AGENCY: Agricultural Marketing Service, USDA.

ACTION: Advance notice of proposed rulemaking; extension of comment period.

SUMMARY: The Agricultural Marketing Service (AMS) is providing additional time for the public to submit comments and information about how to update the United States Department of Agriculture (USDA) organic regulations on inert ingredients in pesticides used in organic production. AMS seeks comments on alternatives to its existing regulations that would align with the Organic Foods Production Act of 1990 (OFPA) and the U.S. Environmental Protection Agency's (EPA) regulatory framework for inert ingredients. Information from public comments would inform AMS's approach to this topic, including any proposed revisions of the USDA organic regulations.

DATES: The comment period for the notice originally published on September 2, 2022, at 87 FR 54173, is extended. Comments must be submitted on or before December 31, 2022.

ADDRESSES: To submit comments on the ANPR, use any of the following procedures:

• Federal eRulemaking Portal: https://www.regulations.gov. Follow the instructions for submitting comments. You can access this ANPR and instructions for submitting public comments by searching for document number, AMS-NOP-21-0008.

• Mail: Jared Clark, Standards Division, National Organic Program, USDA-AMS-NOP, 1400 Independence Ave. SW, Room 2642-S., Ag Stop 0268, Washington, DC 20250-0268.

All submissions received must include the docket number AMS-NOP-21-0008, NOP-21-01, and/or Regulatory Information Number (RIN) 0581-AE02 for this notice. AMS seeks information and feedback on specific topics listed in this notice. Commenters are also invited to provide information and perspectives on inert ingredients for topics not requested by AMS in this notice. Specific and relevant information and data to support your comments is encouraged, including, scientific, environmental, manufacturing, industry, or impact information. Comments received will be posted to https://www.regulations.gov.

To access the document, related documents, and comments received, go to https://www.regulations.gov (search for Docket ID AMS-NOP-21-0008).

FOR FURTHER INFORMATION CONTACT: Jared Clark, Standards Division, National Organic Program, 1400 Independence Ave. SW, Room 2642-S., Ag Stop 0268, Washington, DC 20250-0268; Telephone: (202) 720-3252; Email: jared.clark@usda.gov.

SUPPLEMENTARY INFORMATION: A notice published in the Federal Register on September 2, 2022 (87 FR 54173), requested comments and information from the public about how to update the United States Department of Agriculture (USDA) organic regulations on inert ingredients in pesticides used in organic production. This advance notice of proposed rulemaking (ANPR) established a 60-day comment period, ending November 1, 2022. During this comment period, AMS received requests from two industry organizations asking for additional time to submit comments, citing the complexity of the questions and topic. Further, one organization notes that this comment period overlaps with two other National Organic Program (NOP) comment periods: Organic Livestock and Poultry Standards (87 FR 48562), closing October 11, 2022, and the National Organic Standards Board Meeting (87 FR 37495), closing September 29, 2022.

AMS is extending the comment period by 60 days to encourage constructive input on the topics raised by the ANPR. The September 2, 2022, ANPR includes numerous specific alternatives and questions for commenter consideration. Included for reference in this docket (AMS-NOP-21-0008) are several documents to aid consideration and evaluation of these questions, including: NOSB recommendations; copies of EPA List 3, List 4A, and List 4B; National List petition procedures; and a 2015 spreadsheet identifying inert ingredients used in organic production (based on a 2011 survey by the Organic Materials Review Institute).

Comments received would inform AMS's approach on this topic regarding the allowance of inert ingredients in organic production. We ask that commenters please fully explain all views and alternative solutions or suggestions and supply examples, data, or other information to support those views. Substantive, well-reasoned, and constructive comments will assist AMS in identifying challenges and evaluating alternatives as we move forward with rulemaking.

Erin Morris,
Associate Administrator, Agricultural Marketing Service.

[FR Doc. 2022-22012 Filed 10-7-22; 8:45 am]

BILLING CODE P